DEPARTMENT OF DEFENSE

Office of the Secretary

Defense Intelligence Agency Advisory Board Closed Meeting

AGENCY: Department of Defense, Defense Intelligence Agency.

ACTION: Notice.

SUMMARY: Pursuant to the provisions of Subsection (d) of Section 10 of Pub. L. 92-463, as amended by Section 5 of Pub. L. 94-409, notice is hereby given that a closed meeting of the DIA Advisory Board has been scheduled as follows:

DATES: 23-24 June 2004 (8:30 a.m. to 5 p.m.)

ADDRESSES: ANSER Conference Center, 2900 S. Quincy Street, Suite 800, Arlington, VA

FOR FURTHER INFORMATION CONTACT: Ms. Jane McGehee, Program Manager/Executive Secretary, DIA Advisory Board, Washington, DC., 20340-1328 (703) 693-9567.

SUPPLEMENTARY INFORMATION: The entire meeting is devoted to the discussion of classified information as defined in Section 552b(c)(l), Title 5 of the U.S. Code, and therefore will be closed to the public. The Board will receive briefings and discuss several current critical intelligence issues in order to advise the Director, DIA.

Dated: June 21, 2004.
L. M. Bynum,
Alternate OSD Federal Register, Liaison Officer, Department of Defense.

[FR Doc. 04-14435 Filed 6-24-04; 8:45 am]

BILLING CODE 5001-06-M